DEPARTMENT OF ENERGY

Federal Energy Regulatory Commission

[Docket No. RP02-166-002]

Florida Gas Transmission Company; Notice of Compliance Filing

August 21, 2002.

Take notice that on August 7, 2002, Florida Gas Transmission Company (“FGT”) tendered for filing to become part of its FERC Gas Tariff, Third Revised Volume No. 1 (“Tariff”) effective April 1, 2002, the following tariff sheets:

Ninth Revised Sheet No. 2

Second Revised Sheet No. 209

FGT states that on December 1, 1999, in Docket No. CP00-40-000, FGT filed for authorization to expand the capacity of its system in order to provide incremental firm transportation service pursuant to Rate Schedule FTS-2 (“Phase V Certificate Application”). Included as part of the Phase V Certificate Application were the Phase V shippers' FTS-2 service agreements. FGT states that in its Preliminary Determination on Nonenvironmental Issues dated November 22, 2000 (“PD”) the Commission noted that these service agreements contained certain variations from the FTS-2 Form of Service Agreement contained in FGT's Tariff. The PD directed FGT “to refile them so that they conform with the FTS-2 Form of Service Agreement in its tariff or to develop a generally applicable FTS-2 Form of Service Agreement to conform with the Phase V agreements.”

FGT further states that on February 28, 2002, in Docket No. RP02-166-000, FGT filed tariff revisions to its FTS-2 Form of Service Agreement (“February 28 Filing”) in response to the Commission's requirements in the PD. The February 28 Filing was rejected by Commission order issued March 28, 2002 (“March 28 Order”). The March 28 Order directed FGT to file tariff changes modifying its FTS-2 Form of Service Agreement to match the provisions of the Phase V shippers' FTS-2 service agreements. In addition, FGT was instructed to include a narrative explanation and a matrix that matches up each Phase V contract provision with each proposed FTS-2 Form Agreement provision, including justification for any contract provision that deviates from the proposed FTS-2 Form Agreement.

On April 17, 2002, FGT states it filed tariff revisions and the requested matrix (April 17 Filing) in accordance with the March 28 Order. On August 1, 2002, the Commission issued an order (“August 1 Order”), which affirms that FGT has “fully complied with the Commission's directives in the PD and the March 28 order”, but states that “there remain material deviations between the FTS-2 form of service agreement and the Phase V service agreements”. Ordering Paragraph 9 of the August 1 Order directs FGT to file, within ten days from the date of the order, a tariff sheet listing the Phase V service agreements as non-conforming in accordance with Section 154.112(b) of the Commission's regulations, which requires that service agreements that deviate in any material aspect from the form of service agreement must be filed with the Commission and referenced in FERC Volume No. 1. The instant filing is submitted in compliance with the August 1 Order.

Copies of this filing are on file with the Commission and are available for public inspection in the Public Reference Room.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. See, 18 CFR 385.2001(a)(1)(iii) and the instructions on the Commission's Web site under the “e-Filing” link. The Commission strongly encourages electronic filings.

Linwood A. Watson, Jr.,
Deputy Secretary.

[FR Doc. 02-21856 Filed 8-27-02; 8:45 am]

BILLING CODE 6717-01-P